NATIONAL SCIENCE FOUNDATION

Notice of Intent To Seek Approval To Establish an Information Collection

AGENCY: National Science Foundation.

ACTION: Notice and request for comments.

SUMMARY: Under the Paperwork Reduction Act of 1995 and as part of its continuing effort to reduce paperwork and respondent burden, the National Science Foundation (NSF) is inviting the general public or other Federal agencies to comment on this proposed information collection.

DATES: Written comments on this notice must be received by September 13, 2019, to be assured consideration. Comments received after that date will be considered to the extent practicable. Send comments to address below.

FOR FURTHER INFORMATION CONTACT: Ms. Suzanne H. Plimpton, Reports Clearance Officer, National Science Foundation, 2415 Eisenhower Avenue, Alexandria, VA 22314; telephone (703) 292-7556; or send email to splimpto@nsf.gov. Individuals who use a telecommunications device for the deaf (TDD) may call the Federal Information Relay Service (FIRS) at 1-800-877-8339, which is accessible 24 hours a day, 7 days a week, 365 days a year (including federal holidays).

SUPPLEMENTARY INFORMATION:

Title of Collection: Project evaluation reports for the Innovative Technology Experiences for Students and Teachers program.

OMB Number: 3145-NEW.

Expiration Date of Approval: Not applicable.

Type of Request: Intent to seek approval to establish an information collection.

Abstract: The Division of Research on Learning in Formal and Informal Settings, within the Directorate of Education and Human Resources of the National Science Foundation, will collect evaluation reports for all funded projects within the Innovative Technology Experiences for Students and Teachers program. ITEST is an applied research and development (R&D) program providing direct student learning opportunities in pre-kindergarten through high school (PreK-12). The learning opportunities are based on innovative use of technology to strengthen knowledge and interest in science, technology, engineering, and mathematics (STEM) and information and communication technology (ICT) careers. Evaluation activities are required components of the projects. This document collection will allow the program to have access to the evaluation reports that measure the ways in which individual projects are achieving their goals. Evaluation reports will be included as a part of the regular annual reporting requirements.

Use of the Information: The data collected will be used for NSF internal reports, historical data, performance review by peer site visit teams, and program level studies and evaluations.

Burden on the Public: The program estimates that an average of five minutes is expended for each annual report. Evaluation reports are already required of projects, and as such, including the documents with annual reporting is the only additional burden. An estimated 100 responses for new and continuing projects are expected annually for a total of 500 public burden minutes (less than 9 hours) annually.

Expected Respondents: Individuals.

Estimated Number of Responses: 100.

Estimated Number of Respondents: 100.

Estimated Total Annual Burden on Respondents: Less than 9 hours.

Frequency of Responses: Annual.

Comments: Comments are invited on: (a) Whether the proposed collection of information is necessary for the proper performance of the functions of the Foundation, including whether the information will have practical utility; (b) the accuracy of the Foundation's estimate of the burden of the proposed collection of information; (c) ways to enhance the quality, utility, and clarity of the information to be collected; and (d) ways to minimize the burden of the collection of information on those who are to respond, including through the use of automated collection techniques or other forms of information technology.

Dated: July 9, 2019.
Suzanne H. Plimpton,
Reports Clearance Officer, National Science Foundation.

[FR Doc. 2019-14914 Filed 7-12-19; 8:45 am]

BILLING CODE 7555-01-P